DEPARTMENT OF THE TREASURY

Submission for OMB Review; Comment Request

November 1, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before December 12, 2002, to be assured of consideration.

Internal Revenue Service (IRS)

OMB Number: 1545-1466.

Form Number: None.

Type of Review: Revision.

Title: Third-Party Disclosure Requirements in IRS Regulations.

Description: This submission contains third-party disclosure regulations subject to the Paperwork Reduction Act of 1995.

Respondents: Business or other for-profit, Individuals or households, not-for-profit institutions.

Estimated Number of Respondents/Recordkeepers: 245,073,905.

Estimated Burden Hours Per Respondent/Recordkeeper: Various.

Frequency of Response: Annually.

Estimated Total Reporting/Recordkeeping Burden: 68,885,183 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Departmental PRA Clearance Officer.

[FR Doc. 02-28651 Filed 11-8-02; 8:45 am]

BILLING CODE 4830-01-P